DEPARTMENT OF THE INTERIOR

Fish and Wildlife Service

Proposed Low-Effect Habitat Conservation Plan for 93-129 Ltd in the City of Laguna Niguel, California

AGENCY: Fish and Wildlife Service, Interior.

ACTION: Notice of availability.

SUMMARY: 93-129 LTD (Applicant) has applied to the U.S. Fish and Wildlife Service (Service) for a 10-year incidental take permit for one covered species pursuant to section 10(a)(1)(B) of the Endangered Species Act of 1973, as amended (Act). The application addresses the potential for “take” of the federally threatened coastal California gnatcatcher (Polioptila californica californica) associated with the proposed grading and infrastructure for Tentative Parcel Map 93-129. A conservation program to mitigate for the project activities would be implemented as described in the proposed Low-Effect Habitat Conservation Plan for Grading and Infrastructure for Tentative Parcel Map 93-129 (proposed Plan), which would be implemented by the Applicant.

We are requesting comments on the permit application and on the preliminary determination that the proposed Plan qualifies as a “low-effect” Habitat Conservation Plan, eligible for a categorical exclusion under the National Environmental Policy Act (NEPA) of 1969, as amended. The basis for this determination is discussed in the Environmental Action Statement (EAS) and the associated Low Effect Screening Form, which are also available for public review.

DATES: Written comments should be received on or before January 22, 2007.

ADDRESSES: Comments should be addressed to the Field Supervisor, Fish and Wildlife Service, Carlsbad Fish and Wildlife Office, 6010 Hidden Valley Road, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the application, proposed Plan, and EAS should immediately contact the Service by telephone at (760) 431-9440 or by letter to the Carlsbad Fish and Wildlife Office. Copies of the proposed Plan and EAS also are available for public inspection during regular business hours at the Carlsbad Fish and Wildlife Office [see ADDRESSES].

Background

Section 9 of the Act and its implementing Federal regulations prohibit the take of animal species listed as endangered or threatened. Take is defined under the Act as harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32

The Applicant is seeking a permit for take of the coastal California gnatcatcher during the life of the permit. This species is referred to as the “CAGN” in the proposed Plan.

The Applicant proposes to grade, subdivide, and construct infrastructure for four estate custom home parcels on the approximately 50-acre parcel (Tentative Parcel Map 93-129) in Laguna Niguel, California. The proposed project will impact an estimated 4.3 acres of coastal sage scrub and up to two pairs of CAGN. The property is within designated critical habitat for CAGN. The project site does not contain any other rare, threatened or endangered species or habitat.

The Applicant proposes to mitigate the effects to CAGN associated with the covered activities by fully implementing the Plan. The purpose of the proposed Plan's conservation program is to restore and conserve habitat for the CAGN. The Applicant proposes to mitigate impacts to CAGN through creation and restoration of 10.61 acres of coastal sage scrub and conservation of 12.8 acres of coastal sage scrub (including the created and restored habitat).

The Proposed Action consists of the issuance of an incidental take permit and implementation of the proposed Plan, which includes measures to mitigate impacts of the project on CAGN. Two alternatives to the taking of the listed species under the Proposed Action are considered in the proposed Plan. Under the No Action Alternative, no permit would be issued, and no construction would occur. Under the Parcel by Parcel Alternative, each individual parcel owner would conduct grading and slope stabilization activities. This alternative would necessitate the construction of an additional road immediately adjacent to the CSS habitat conservation area on the north side of the property's ridgeline and would significantly increase the impacts to CSS habitat.

The Service has made a preliminary determination that approval of the proposed Plan qualifies as a categorical exclusion under NEPA, as provided by the Department of the Interior Manual (516 DM 2, Appendix 1 and 516 DM 6, Appendix 1) and as a “low-effect” plan as defined by the Habitat Conservation Planning Handbook (November 1996). Determination of Low-effect Habitat Conservation Plans is based on the following three criteria: (1) Implementation of the proposed Plan would result in minor or negligible effects on federally listed, proposed, and candidate species and their habitats; (2) implementation of the proposed Plan would result in minor or negligible effects on other environmental values or resources; and (3) impacts of the proposed Plan, considered together with the impacts of other past, present and reasonably foreseeable similarly situated projects would not result, over time, in cumulative effects to environmental values or resources which would be considered significant.

Based upon this preliminary determination, we do not intend to prepare further NEPA documentation. We will consider public comments in making the final determination on whether to prepare such additional documentation.

Public Review

Written comments from interested parties are welcome to ensure that the issues of public concern related to the proposed action are identified. Comments and materials received will be available for public inspection, by appointment, during normal business hours at the office listed in the ADDRESSES section of this notice. All comments and materials received, including names and addresses, will become part of the administrative record and may be released to the public.

Our practice is to make comments, including names, home addresses, home phone numbers, and email addresses of respondents, available for public review. Individual respondents may request that we withhold their names and /or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

This notice is provided pursuant to section 10(c) of the Act. We will evaluate the permit application, the proposed Plan, and comments submitted thereon to determine whether the application meets the requirements of section 10(a) of the Act. If the requirements are met, we will issue a permit to 93-129 LTD for the incidental take of the coastal California gnatcatcher associated with the proposed grading and infrastructure for Tentative Parcel Map 93-129 in the City of Laguna Niguel, Orange County, California.

Dated: December 18, 2006.
Jim A. Bartel,
Field Supervisor, Carlsbad Fish and Wildlife Office, Carlsbad, California.

[FR Doc. E6-21927 Filed 12-21-06; 8:45 am]

BILLING CODE 4310-55-P